DEPARTMENT OF JUSTICE

Antitrust Division

Notice Pursuant to the National Cooperative Research and Production Act of 1993—Advanced Media Workflow Association, Inc.

Notice is hereby given that, on March 20, 2013, pursuant to Section 6(a) of the National Cooperative Research and Production Act of 1993, 15 U.S.C. 4301 et seq. (“the Act”), Advanced Media Workflow Association, Inc. has filed written notifications simultaneously with the Attorney General and the Federal Trade Commission disclosing changes in its membership. The notifications were filed for the purpose of extending the Act's provisions limiting the recovery of antitrust plaintiffs to actual damages under specified circumstances. Specifically, National Archives and Records Administration, Washington, DC; Lawrence Kaplan (individual member), Menlo Park, CA; Jone Lee (individual member), Suwon, REPUBLIC OF KOREA; Joseph Spillman (individual member), Temecula, CA; and Ian Wimsett (individual member), London, UNITED KINGDOM, have been added as parties to this venture.

Also, Chyron Corp., Melville, NY; Cineflix Productions, Toronto, CANADA; Cube-Tec International, Bremen, GERMANY; Portability 4 Media, Aultbeau, Achnasheen, UNITED KINGDOM; Quantum, Englewood, CO; and Patrick Cusack (individual member), Los Angeles, CA, have withdrawn as parties to this venture. In addition, the following members have changed their names: DVS Digital Video to Rohde & Schwarz DVS, Hannover, GERMANY; and OpenCube Technologies to EVS Broadcast Equipment, Ramonville Saint-Agne, FRANCE.

No other changes have been made in either the membership or planned activity of the group research project. Membership in this group research project remains open, and Advanced Media Workflow Association, Inc. intends to file additional written notifications disclosing all changes in membership.

On March 28, 2000, Advanced Media Workflow Association, Inc. filed its original notification pursuant to Section 6(a) of the Act. The Department of Justice published a notice in the Federal Register pursuant to Section 6(b) of the Act on June 29, 2000 (65 FR 40127).

The last notification was filed with the Department on December 26, 2012. A notice was published in the Federal Register pursuant to Section 6(b) of the Act on February 1, 2013 (78 FR 7455).

Patricia A. Brink,
Director of Civil Enforcement, Antitrust Division.

[FR Doc. 2013-08684 Filed 4-12-13; 8:45 am]

BILLING CODE P